DEPARTMENT OF TRANSPORTATION

Federal Aviation Administration

14 CFR Part 39

[Docket No. FAA-2014-0344; Directorate Identifier 2014-NM-034-AD; Amendment 39-18095; AD 2015-02-26]

RIN 2120-AA64

Airworthiness Directives; The Boeing Company Airplanes

AGENCY: Federal Aviation Administration (FAA), DOT.

ACTION: Final rule.

SUMMARY: We are superseding Airworthiness Directive (AD) 2013-24-13 for certain The Boeing Company Model 737-100, -200, -200C, -300, -400, -500, -600, -700, -700C, -800, and -900 series airplanes. AD 2013-24-13 required replacing the pivot link assembly for certain airplanes, replacing the seat track link assemblies or modifying the existing seat track link assembly for certain airplanes, or modifying the existing seat track link assembly fastener for certain other airplanes. AD 2013-24-13 also required inspecting, changing, or repairing the seat track link assembly for certain other airplanes. Since we issued AD 2013-24-13, a certain paragraph reference in that AD was found to be mis-identified; this AD corrects this paragraph reference. We are issuing this AD to prevent seat detachment in an emergency landing, which could cause injury to occupants of the passenger compartment and affect emergency egress.

DATES: This AD is effective March 11, 2015.

The Director of the Federal Register approved the incorporation by reference of certain publications listed in this AD as of January 7, 2014 (78 FR 72558, December 3, 2013).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0344; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

SUPPLEMENTARY INFORMATION:

Discussion

We issued a notice of proposed rulemaking (NPRM) to amend 14 CFR part 39 to supersede AD 2013-24-13, Amendment 39-17687 (78 FR 72558, December 3, 2013). AD 2013-24-13 applied to certain The Boeing Company Model 737-100, -200, -200C, -300, -400, -500, -600, -700, -700C, -800, and -900 series airplanes. The NPRM published in the Federal Register on July 2, 2014 (79 FR 37676). The NPRM was prompted by the discovery that a paragraph reference was mis-identified in AD 2013-24-13. The NPRM proposed to continue to require replacing the pivot link assembly for certain airplanes, replacing the seat track link assemblies or modifying the existing seat track link assembly for certain airplanes, or modifying the existing seat track link assembly fastener for certain other airplanes. The NPRM also proposed to continue to require inspecting, changing, or repairing the seat track link assembly for certain other airplanes. We are issuing this AD to prevent seat detachment in an emergency landing, which could cause injury to occupants of the passenger compartment and affect emergency egress.

Comments

We gave the public the opportunity to participate in developing this AD. The following presents the comments received on the NPRM (79 FR 37676, July 2, 2014) and the FAA's response to each comment.

Boeing stated that it concurred with the content of the NPRM (79 FR 37676, July 2, 2014).

Effect of Winglets on Accomplishment of the Proposed Actions

Aviation Partners Boeing stated that the installation of winglets per Supplemental Type Certificates (STC) ST00830SE (http://rgl.faa.gov/Regulatory_and_Guidance_Library/rgstc.nsf/0/408E012E008616A7862578880060456C?OpenDocument&Highlight=st00830se) and STC ST01219SE (http://rgl.faa.gov/Regulatory_and_Guidance_Library/rgstc.nsf/0/ebd1cec7b301293e86257cb30045557a/$FILE/ST01219SE.pdf) does not affect the accomplishment of the manufacturer's service instructions.

Request To Withdraw the NPRM (79 FR 37676, July 2, 2014)

KLM Royal Dutch Airlines (KLM) requested that the NPRM (79 FR 37676, July 2, 2014) be withdrawn. KLM stated that superseding AD 2013-24-13, Amendment 39-17687 (78 FR 72558, December 3, 2013), with another AD having a different AD number would be an unnecessary burden to operators of Model 737-600, -700, -800, and -900 series airplanes. KLM stated that the main reason for superseding AD 2013-24-13 was because of a typographical error that only affects operators of Model 737-100, -200, -300, -400, and -500 series airplanes. KLM suggested that the FAA issue an alternative method of compliance (AMOC) letter for the operators of Model 737-100, -200, -300, -400, and -500 series airplanes, instead of superseding AD 2013-24-13.

We do not agree to withdraw the NPRM (79 FR 37676, July 2, 2014). An AMOC letter to address this situation is not appropriate. Paragraph (i) of AD 2013-24-13, Amendment 39-17687 (78 FR 72558, December 3, 2013), included a cross-reference to paragraph (g)(3) of that AD, but should have referred to paragraph (g)(4) of that AD. By changing this incorrect reference in the NPRM to “paragraph (g)(4),” an additional concurrent action is required for airplanes identified as Group 5 in Boeing Special Attention Service Bulletin 737-53-1260, Revision 1, dated May 23, 2013. Therefore, notice and opportunity for public comment was necessary. We added a clarifying phrase in paragraph (i) of this AD explaining that there is a corrected paragraph reference (i.e., “(g)(3)” was changed to “(g)(4)”), which results in a new concurrent action for Group 5 airplanes.

Conclusion

We reviewed the relevant data, considered the comments received, and determined that air safety and the public interest require adopting this AD as proposed except for minor editorial changes. We have determined that these minor changes:

• Are consistent with the intent that was proposed in the NPRM (79 FR 37676, July 2, 2014) for correcting the unsafe condition; and

• Do not add any additional burden upon the public than was already proposed in the NPRM (79 FR 37676, July 2, 2014).

We also determined that these changes will not increase the economic burden on any operator or increase the scope of this AD.

Costs of Compliance

We estimate that this AD affects 1,281 airplanes of U.S. registry.

We estimate the following costs to comply with this AD:

Estimated Costs
Action | Labor cost | Parts cost | Cost per product | U.S. airplanes | Cost on U.S. operators
Replacement or modification [retained actions from AD 2013-24-13, Amendment 39-17687 (78 FR 72558, December 3, 2013)] | Up to 41 work-hours × $85 per hour = $3,485 | Up to $15,478 | Up to $18,963 | 1,281 | Up to $24,291,603.
Concurrent installation or modification (Groups 1, 2, 4, and 5 airplanes) [retained actions from AD 2013-24-13, Amendment 39-17687 (78 FR 72558, December 3, 2013)]. ¹ | Up to 60 work-hours × $85 per hour = $5,100 | Up to $18,089 | Up to $23,189 | 214 | Up to $4,962,446.
¹ We have received no definitive data that would enable us to provide a cost estimate for the actions required for airplanes in Group 6 identified in Boeing Special Attention Service Bulletin 737-53-1260, Revision 1, dated May 23, 2013.

This new AD adds no new costs to affected operators.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-24-13, Amendment 39-17687 (78 FR 72558, December 3, 2013), and adding the following new AD:

2015-02-26 The Boeing Company: Amendment 39-18095; Docket No. FAA-2014-0344; Directorate Identifier 2014-NM-034-AD.

(a) Effective Date

This AD is effective March 11, 2015.

(b) Affected ADs

This AD replaces AD 2013-24-13, Amendment 39-17687 (78 FR 72558, December 3, 2013).

(c) Applicability

This AD applies to the airplanes identified in paragraphs (c)(1) and (c)(2) of this AD, certificated in any category.

(1) The Boeing Company Model 737-100, -200, -200C, -300,—400, and -500 series airplanes, as identified in Boeing Special Attention Service Bulletin 737-53-1260, Revision 1, dated May 23, 2013.

(2) The Boeing Company Model 737-600, -700, -700C, -800, and -900 series airplanes, as identified in Boeing Service Bulletin 737-53-1244, Revision 5, dated July 27, 2011.

(d) Subject

Air Transport Association (ATA) of America Code 53, Fuselage.

(e) Unsafe Condition

This AD was prompted by a report that a Boeing study found that the seat track attachment of body station 520 flexible joint is structurally deficient in resisting a 9g forward emergency load condition in certain seating configurations. We are issuing this AD to prevent seat detachment in an emergency landing, which could cause injury to occupants of the passenger compartment and affect emergency egress.

(f) Compliance

Comply with this AD within the compliance times specified, unless already done.

(g) Retained Repair or Replacement of Seat Track Link Assembly or Seat Track Link Assembly Fastener, With No Changes

This paragraph restates the requirements of paragraph (g) of AD 2013-24-13, Amendment 39-17687 (78 FR 72558, December 3, 2013), with no changes. Within 60 months after January 7, 2014 (the effective date of AD 2013-24-13), do the actions specified in paragraph (g)(1), (g)(2), (g)(3), or (g)(4) of this AD, as applicable.

(1) For Model 737-600, -700, 700C, -800, and -900 series airplanes: Install new, improved pivot link assemblies, in accordance with the Accomplishment Instructions of Boeing Service Bulletin 737-53-1244, Revision 5, dated July 27, 2011.

(2) For airplanes in Groups 1, 2, 3, and 4, as identified in Boeing Special Attention Service Bulletin 737-53-1260, Revision 1, dated May 23, 2013: Replace the seat track link assembly, in accordance with the Accomplishment Instructions of Boeing Special Attention Service Bulletin 737-53-1260, Revision 1, dated May 23, 2013.

(3) For airplanes in Group 6, as identified in Boeing Special Attention Service Bulletin 737-53-1260, Revision 1, dated May 23, 2013: Inspect, change, or repair the seat track link assembly, as applicable, using a method approved in accordance with the procedures specified in paragraph (k) of this AD.

(4) For airplanes in Group 5, as identified in Boeing Special Attention Service Bulletin 737-53-1260, Revision 1, dated May 23, 2013: Modify the existing seat track link assembly fastener, in accordance with the Accomplishment Instructions of Boeing Special Attention Service Bulletin 737-53-1260, Revision 1, dated May 23, 2013.

(h) Retained Optional Modification of Seat Track Link Assembly, With No Changes

This paragraph restates the provisions of paragraph (h) of AD 2013-24-13, Amendment 39-17687 (78 FR 72558, December 3, 2013), with no changes. In lieu of the replacement specified in paragraph (g)(2) of this AD, doing the optional modification of the seat track link assembly, in accordance with the Accomplishment Instructions of Boeing Special Attention Service Bulletin 737-53-1260, Revision 1, dated May 23, 2013, is acceptable for compliance with the requirements of paragraph (g)(2) of this AD, provided the modification is done within the compliance time specified in paragraph (g) of this AD.

(i) Retained Concurrent Actions, With New Concurrent Action for Group 5 Airplanes

This paragraph restates the requirements of paragraph (i) of AD 2013-24-13, Amendment 39-17687 (78 FR 72558, December 3, 2013), with a corrected paragraph reference (i.e., “(g)(3)” was changed to “(g)(4)”), which results in a new concurrent action for Group 5 airplanes. For airplanes in Groups 1, 2, 4, and 5, as identified in Boeing Special Attention Service Bulletin 737-53-1260, Revision 1, dated May 23, 2013: Before or concurrently with the accomplishment of the actions specified in paragraph (g)(2) or (g)(4) of this AD, install a new seat track link assembly or modify the seat track link assembly, as applicable, in accordance with the Accomplishment Instructions of Boeing Service Bulletin 737-53-1120, Revision 1, dated May 13, 1993.

(j) Retained Credit for Previous Actions, With No Changes

This paragraph restates the credit provisions specified in paragraph (j) of AD 2013-24-13, Amendment 39-17687 (78 FR 72558, December 3, 2013), with no changes.

(1) This paragraph provides credit for the actions required by paragraph (g)(1) of this AD, if those actions were performed before January 7, 2014 (the effective date of AD 2013-24-13, Amendment 39-17687 (78 FR 72558, December 3, 2013)), using Boeing Service Bulletin 737-53-1244, dated April 17, 2003; Revision 1, dated May 29, 2003; Revision 2, dated March 15, 2007; or Revision 3, dated December 4, 2008; which are not incorporated by reference in this AD.

(2) This paragraph provides credit for the actions required by paragraphs (g)(2) and (g)(4) of this AD, if those actions were performed before January 7, 2014 (the effective date of AD 2013-24-13, Amendment 39-17687 (78 FR 72558, December 3, 2013)), using Boeing Special Attention Service Bulletin 737-53-1260, dated May 7, 2007, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by The Boeing Commercial Airplanes Organization Designation Authorization (ODA) that has been authorized by the Manager, Seattle ACO, to make those findings. For a repair method to be approved, the repair must meet the certification basis of the airplane and 14 CFR 25.571, Amendment 45, and the approval must specifically refer to this AD.

(l) Related Information

(1) For more information about this AD, contact Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

(2) Service information identified in this AD that is not incorporated by reference is available at the addresses specified in paragraphs (m)(4) and (m)(5) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 7, 2014 (78 FR 72558, December 3, 2013).

(i) Boeing Service Bulletin 737-53-1120, Revision 1, dated May 13, 1993.

(ii) Boeing Service Bulletin 737-53-1244, Revision 5, dated July 27, 2011.

(iii) Boeing Special Attention Service Bulletin 737-53-1260, Revision 1, dated May 23, 2013.

(4) For information identified in this AD, contact Boeing Commercial Airplanes, Attention: Data & Services Management, P.O. Box 3707, MC 2H-65, Seattle, WA 98124-2207; telephone 206-544-5000, extension 1; fax 206-766-5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on January 21, 2015.
Jeffrey E. Duven,
Manager, Transport Airplane Directorate, Aircraft Certification Service.

[FR Doc. 2015-02074 Filed 2-3-15; 8:45 am]

BILLING CODE 4910-13-P